DEPARTMENT OF ENERGY

Federal Energy Regulatory Commission

[Project No. 2839-015]

Notice Soliciting Scoping Comments; Village of Lyndonville Electric Department

Take notice that the following hydroelectric license application has been filed with the Commission and is available for public inspection.

a. Type of Application: New Major License.

b. Project No.: P-2839-015.

c. Date filed: May 26, 2017.

d. Applicant: Village of Lyndonville Electric Department.

e. Name of Project: Great Falls Hydroelectric Project.

f. Location: On the Passumpsic River, in the Town of Lyndon, Caledonia County, Vermont. There are no federal or tribal lands within the project boundary.

g. Filed Pursuant to: Federal Power Act, 16 U.S.C. 791 (a)-825(r).

h. Applicant Contact: Mr. Bill Humphrey, Village of Lyndonville Electric Department, 119 Park Avenue, Lyndonville, VT 05851; (802) 626-3366.

i. FERC Contact: Bill Connelly, (202) 502-8587 or william.connelly@ferc.gov.

j. Deadline for filing scoping comments: October 27, 2017.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2839-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Great Falls Project consists of: (1) A 160-foot-long, 32-foot-high curved, concrete dam with 2-foot-high flashboards; (2) an approximately 12-acre impoundment having a storage capacity of 135-acre-feet at a normal full pond water surface elevation of 668.38 feet above mean sea level; (3) an 18.5-foot-wide headworks structure with two headgates; (4) a headworks gate house; (5) an intake structure and bypass pipe that are integral to the dam; (6) a 290-foot-long power canal; (7) two sluice gates; (8) an intake gate house with two trashracks; (9) a 200-foot-long metal penstock; (10) a 47-foot-long, 25-foot-wide powerhouse containing a 1,350-kilowatt (kW) turbine-generator unit and a 40-foot-long, 40-foot-wide powerhouse containing two 350-kW turbine-generator units, for a total capacity of 2,050-kW; (11) a 350-foot-long, 2.4-kilovolt (kV) above-ground generator lead that connects the turbine-generator units to a step-up transformer; (12) a 1.75-mile-long, 12.5-kV above-ground transmission line; and (13) appurtenant facilities.

The Village of Lyndonville Electric Department (Lyndonville) operates the project in a run-of-river mode with an annual average energy production of approximately 3,960 megawatt-hours. Lyndonville is not proposing any changes in project operation. Lyndonville proposes to continue to release a year-round minimum flow of 10 cfs (or inflow, whichever is less) to the bypassed reach to maintain habitat for fish and aquatic organisms and release a minimum flow of 75 cfs (or inflow, whichever is less) from the powerhouse during project shutdowns to protect fish and aquatic resources in the downstream reach. Lyndonville proposes to install an automatic pond level control system to improve control of impoundment water surface level fluctuations. Lyndonville also proposes to develop a minimum flow monitoring plan to ensure adequate flow is provided to the bypassed reach and downstream of the powerhouse.

Lyndonville also proposes to construct and maintain a new carry-in boat access trail downstream of the tailrace, on the west bank of the Passumpsic River, designate a new bank fishing area, and install a designated parking area outside of the project gates along the access road to the project. To ensure the adequacy of project recreation facilities, Lyndonville proposes to conduct a Recreation Inventory, Use and Needs Assessment within one year of completion of recreational improvements. Finally, Lyndonville proposes to develop a Historic Properties Management Plan to protect historic resources.

m. A copy of the application is available for review at the Commission in the Public Reference Room or may be viewed on the Commission's Web site at http://www.ferc.gov using the eLibrary link. Enter the docket number excluding the last three digits in the docket number field to access the document. For assistance, contact FERC Online Support. A copy is available for inspection and reproduction at the address in Item H above.

n. You may also register online at http://www.ferc.gov/docs-filing/esubscription.asp to be notified via email of new filings and issuances related to this or other pending projects. For assistance, contact FERC Online Support.

o. Scoping Process:

Commission staff intends to prepare a single Environmental Assessment (EA) for the Great Falls Hydroelectric Project in accordance with the National Environmental Policy Act. The EA will consider both site-specific and cumulative environmental impacts, and reasonable alternatives to the proposed action.

Commission staff does not propose to conduct on-site scoping meetings at this time. Instead, we are soliciting comments, recommendations, and information on the Scoping Document 1 (SD1) issued on September 27, 2017.

Copies of SD 1 outlining the subject areas to be addressed in the EA were distributed to the parties on the Commission's mailing list and the applicant's distribution list. Copies of SD 1 may be viewed on the web at http://www.ferc.gov using the eLibrary link. Enter the docket number excluding the last three digits in the docket number field to access the document. For assistance, call 1-866-208-3676 or for TTY, call (202) 502-8659.

Dated: September 27, 2017.
Kimberly D. Bose,
Secretary.

[FR Doc. 2017-21268 Filed 10-3-17; 8:45 am]

BILLING CODE 6717-01-P